DEPARTMENT OF THE INTERIOR

National Park Service

[NPS-WASO-NAGPRA-NPS0032430; PPWOCRADN0-PCU00RP14.R50000]

Notice of Intent to Repatriate Cultural Items: U.S. Department of the Interior, Bureau of Indian Affairs, Washington, DC, and Pueblo Grande Museum, City of Phoenix, AZ

AGENCY: National Park Service, Interior.

ACTION: Notice.

SUMMARY: The U.S. Department of the Interior, Bureau of Indian Affairs (BIA), assisted by the Pueblo Grande Museum (PGM), in consultation with the appropriate Indian Tribes or Native Hawaiian organizations, has determined that the cultural items listed in this notice meet the definition of sacred objects. Lineal descendants or representatives of any Indian Tribe or Native Hawaiian organization not identified in this notice that wish to claim these cultural items should submit a written request to the BIA through the Pueblo Grande Museum. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the BIA through the Pueblo Grande Museum at the address in this notice by September 16, 2021.

FOR FURTHER INFORMATION CONTACT: Lindsey Vogel-Teeter, Pueblo Grande Museum, 4619 E Washington Street, Phoenix, AZ 85034, telephone (602) 534-1572, email lindsey.vogel-teeter@phoenix.gov.

SUPPLEMENTARY INFORMATION: Notice is here given in accordance with the Native American Graves Protection and Repatriation Act (NAGPRA), 25 U.S.C. 3005, of the intent to repatriate cultural items under the control of the U.S. Department of the Interior, Bureau of Indian Affairs, Washington, DC, and in the physical custody of the Pueblo Grande Museum, City of Phoenix, AZ, that meet the definition of sacred objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

At an unknown date, 16 cultural items were removed from an unidentified cave located on the Fort McDowell Indian Reservation in Maricopa County, AZ. The cultural items were removed by a private citizen and were subsequently transferred to PGM. The museum catalogued the collection in February 1960. The 16 sacred objects are 15 cane cigarettes and one corn cob.

Expert opinion provided by representatives of the Fort McDowell Yavapai Nation supports the use of these cultural items in ceremonies performed by traditional Yavapai religious practitioners. Once placed in the cave, the cultural items were not to be disturbed. The location where the cultural items were found (i.e., within the boundaries of the Fort McDowell Indian Reservation) lies within the ancestral lands of the Yavapai people. Expert opinion provided by representatives of the Ak-Chin Indian Community [previously listed as Ak Chin Indian Community of the Maricopa (Ak Chin) Indian Reservation, Arizona]; Gila River Indian Community of the Gila River Indian Reservation, Arizona; Salt River Pima-Maricopa Indian Community of the Salt River Reservation, Arizona; and the Tohono O'odham Nation of Arizona, as well as ethnographic documentation, also support the use of these cultural items in ceremonies performed by traditional O'odham religious practitioners. Furthermore, the area where the items were found lies within the region recognized by government and tribal authorities as O'odham aboriginal land.

Determinations Made by the U.S. Department of the Interior, Bureau of Indian Affairs and Pueblo Grande Museum

Officials of the U.S. Department of the Interior, Bureau of Indian Affairs and Pueblo Grande Museum have determined that:

• Pursuant to 25 U.S.C. 3001(3)(C), the 16 cultural items described above are specific ceremonial objects needed by traditional Native American religious leaders for the practice of traditional Native American religions by their present-day adherents.

• Pursuant to 25 U.S.C. 3001(2), there is a relationship of shared group identity that can be reasonably traced between the sacred objects and the Fort McDowell Yavapai Nation, Arizona.

Additional Requestors and Disposition

Lineal descendants or representatives of any Indian Tribe or Native Hawaiian organization not identified in this notice that wish to claim these cultural items should submit a written request with information in support of the claim to Lindsey Vogel-Teeter, Pueblo Grande Museum, 4619 E. Washington Street, Phoenix, AZ 85034, telephone (602) 534-1572, email lindsey.vogel-teeter@phoenix.gov, by September 16, 2021. After that date, if no additional claimants have come forward, transfer of control of the sacred objects to the Fort McDowell Yavapai Nation, Arizona may proceed.

The U.S. Department of the Interior, Bureau of Indian Affairs assisted by the Pueblo Grande Museum are responsible for notifying the Fort McDowell Yavapai Nation, Arizona that this notice has been published.

Dated: August 4, 2021.
Melanie O'Brien,
Manager, National NAGPRA Program.

[FR Doc. 2021-17566 Filed 8-16-21; 8:45 am]

BILLING CODE 4312-52-P